DEPARTMENT OF THE INTERIOR

Fish and Wildlife Service

[FWS-HQ-IA-2014-N086; FXIA16710900000-145-FF09A30000]

Interim Suspension of Imports of Elephant Trophies From Zimbabwe

AGENCY: Fish and Wildlife Service, Interior.

ACTION: Notice of Interim Suspension on Importation of Zimbabwean Elephant Trophies.

SUMMARY: On April 4, 2014, the U.S. Fish and Wildlife Service (Service) announced an interim suspension on importation of sport-hunted African elephant trophies taken in Zimbabwe during the 2014 season (on April 17, 2014, the Service revised this finding, primarily to clarify that the suspension applied only to elephants hunted on or after April 4, 2014). The decision to suspend importation of African elephant trophies taken in Zimbabwe was due primarily to the Service having insufficient information on the status of elephants in Zimbabwe and the current management program in Zimbabwe to determine that the killing of the animal whose trophy is intended for import into the United States would enhance the survival of the species.

DATES: The temporary suspension described in this document went into effect April 4, 2014, and will remain in effect until we provide further notice.

ADDRESSES: Timothy J. Van Norman, Chief, Branch of Permits, Division of Management Authority, U.S. Fish and Wildlife Service, 4401 North Fairfax Drive, Room 212, Arlington, VA 22203; fax (703) 358-2280; or email DMAFR@fws.gov.

FOR FURTHER INFORMATION CONTACT: Timothy J. Van Norman, (703) 358-2104 (telephone); (703) 358-2280 (fax); DMAFR@fws.gov (email).

SUPPLEMENTARY INFORMATION:

Background

The African Elephant (Loxodonta africana) is listed as threatened under the Endangered Species Act (ESA), 16 U.S.C. 1531 et seq., and is regulated under a special rule found at 50 CFR 17.40(e). The special rule includes specific requirements for the import of sport-hunted trophies, including marking requirements for ivory. Under § 17.40(e)(3)(iii)(C), in order for the U.S. Fish and Wildlife Service (Service) to authorize the import of a sport-hunted elephant trophy, the Service must find that the killing of the animal whose trophy is intended for import into the United States would enhance the survival of the species.

Zimbabwe has had an active elephant hunting program for more than 20 years and imports of elephant trophies into the United States have occurred at least since 1997, when the Zimbabwe elephant population, along with populations in Botswana and Namibia, was downlisted to Appendix II of the Convention on International Trade in Endangered Species of Wild Fauna and Flora (CITES). When the population was downlisted, the Service published a Federal Register notice that acknowledged that, as these elephants were classified as an Appendix II population, no U.S. import permit would be required to import trophies. However, we did state that in accordance with the special rule under the ESA, the requirement for an enhancement finding would continue to apply (62 FR 44627, 44633, August 22, 1997). In that Federal Register notice, we stated that in making the required enhancement finding for import of sport-hunted trophies, the Service would review the status of the elephant population and the total management program for elephants in each country to ensure the program was promoting the conservation of the species. The notice also stated that the Service would make such findings on a periodic basis upon receipt of new information on the species' population or management. If, based on new information, the conditions of the special rule are no longer met, the Service explained that it would publish a notice in the Federal Register of any change.

Need for Current Data

Although African elephant conservation issues have received significant attention within CITES over the last 10 or more years, the Service has limited information on elephant management programs, efforts to control poaching, and the effects of legal hunting in Zimbabwe. While the Service is aware of a 1997 national elephant management plan, we are not aware of any updates to the plan, or whether an adaptive management approach has been taken in implementing the plan. In 2007, the Service sent a letter to the Parks and Wildlife Management Authority of Zimbabwe requesting additional information. While we did receive some information at that time, we have not received any additional updates directly from government officials since that time. Service representatives have met in person with Zimbabwean representatives at various times in the past 6 years, but again, little new or additional information has been obtained. As stated, with African elephants being a prominent species within CITES discussions, the Service has received information through documents produced in association with CITES activities. However, this information has focused more on the ivory trade and poaching, with less about regulatory mechanisms in place that would allow for appropriate management of elephants, sustainable utilization of elephants, and how elephant management is integrated into human communities to reduce human-elephant conflicts and support elephant populations.

According to the International Union for Conservation of Nature (IUCN) Species Survival Commission, African Elephant Database report “2013Africa”, the elephant population in Zimbabwe in 2007 was 84,416, but as of 2013, that population had been reduced to 47,366. However, until very recently, the Government continued to provide population estimates exceeding 100,000 elephants. The summary in the IUCN report indicates that, of recent surveys, only about 1% of the country has been covered by more reliable aerial or ground surveys for population estimates, while about 50% was covered by less accurate sample counts or dung counts. For a substantial portion of the country, no recent surveys have occurred, and most estimates are based on 2001 figures. Even problem areas such as Hwange National Park where poaching appears to have significantly reduced the numbers of elephants do not appear to have been surveyed since 2001.

Several areas that were covered in the current surveys (2006-2010) indicate a substantial decline in the population; whether this decline is related to habitat degradation or poaching is unknown. Figures presented at the 16th Meeting of the Conference of the Parties to CITES in Bangkok, Thailand, March 3-14, 2013, indicates that, from 2002-2011, the number of elephants illegally killed annually increased significantly. While the numbers for 2012 and 2013 are not yet available, the trend would indicate a higher percentage of illegal killings and a population in decline. However, without further information, the Service is unable to determine the reliability of these numbers and what influence such a decline, if accurate, is having on the elephant population and its habitat in Zimbabwe.

The Service recognizes that Zimbabwe has established the Parks and Wild Life Act, as well as other laws and regulations, which provide a strong legal basis for regulating utilization and management of elephants within the country. However, with the limited information available to the Service at the time the decision to suspend imports occurred, it is not clear if resources and governance are adequate to successfully implement and enforce the established regulations. Based on available information, it appears that the Zimbabwe Parks and Wildlife Department receives no funding from the central Zimbabwean Government and must rely primarily on hunting revenues. A 2013 CITES Panel of Experts raised concerns as to the status of the Zimbabwe Parks and Wildlife Department relating to its weak financial base, lack of management skills, inadequate and old equipment, and poor infrastructure. However, the Service has little information as to funding levels or the available financial base, management skills, equipment, or infrastructure.

Without current data on population numbers and trends, government efforts to manage elephant populations, government efforts to address human-elephant conflicts and poaching, and the state of the hunting program within the country, the Service is currently unable to make a finding that sport-hunting in Zimbabwe is enhancing the survival of the species and that imports of trophies from that sport hunting would meet the criteria established under the ESA for African elephants. However, we recognize that our inability to make a finding is based primarily on a lack of information, not on specific information that shows that Zimbabwe's management is not enhancing the survival of the species. Therefore, the Service is actively pursuing additional information from the Government of Zimbabwe, as well as other sources, in an effort to make a final determination on whether African elephant sport-hunted trophies taken in 2014 could be imported into the United States.

Recent Action

Until sufficient additional information can be obtained, the Service has established an interim suspension on imports of elephant trophies taken from Zimbabwe on or after April 4, 2014, the date the suspension was announced through a press release and posting on the Service's Web page. Until the Service is able to issue a finding that the sport hunting of African elephants in Zimbabwe enhances the survival of the species, U.S. hunters are on notice that, while no ESA permit is currently required for the import of sport-hunted trophies, such imports cannot occur at this time. The current enhancement finding has been posted at http://www.fws.gov/international/pdf/enhancement-finding-2014-elephant-Zimbabwe.PDF. In addition, the press release announcing the interim suspension and frequently asked questions is available at on the Service's Web page (www.fws.gov/international).

The Service has requested the information necessary to make a final decision from the Government of Zimbabwe. After the Service has an opportunity to review new information and obtain additional information, if necessary, we will make a final decision. If the Service finds that sport hunting of African elephants in Zimbabwe enhances the survival of the species, the suspension will be lifted. If, after reviewing the new information, the Service finds that sport hunting of African elephants in Zimbabwe does not enhance the survival of the species, the suspension will continue until the Service receives new information in the future that would allow it to make a positive enhancement finding. Either way, the final finding will be published in the Federal Register and made available on the Service's Web page.

Interim Suspension

This suspension does not prohibit U.S. hunters from traveling to Zimbabwe and participating in an elephant hunt. The ESA special rule for African elephants does not prohibit take (e.g., hunting) outside the United States, but it does prohibit import of sport-hunted trophies unless all requirements have been met. Therefore, it is possible that a hunter that hunted in Zimbabwe and took an elephant after April 4 could import his or her trophy at a later date if the Service can determine in the final finding that imports meet the criteria under the ESA. Nonetheless, the Service cannot ensure that such imports will ever be authorized in the future.

Further, this suspension on imports does not affect elephant taken in Zimbabwe prior to April 4, 2014. Elephants hunted in previous hunting seasons are still eligible to be imported, provided all CITES and other import requirements are met.

Dated: May 7, 2014.
Timothy J. Van Norman,
Chief, Branch of Permits, Division of Management Authority, U.S. Fish and Wildlife Service.

[FR Doc. 2014-10890 Filed 5-9-14; 8:45 am]

BILLING CODE 4310-55-P